DEPARTMENT OF HEALTH AND HUMAN SERVICES

Food and Drug Administration

[Docket No. 00N-1567]

Agency Information Collection Activities; Submission for OMB Review; Comment Request; Registration of Producers of Drugs and Listing of Drugs in Commercial Distribution

AGENCY: Food and Drug Administration, HHS.

ACTION: Notice.

SUMMARY: The Food and Drug Administration (FDA) is announcing that the proposed collection of information listed below has been submitted to the Office of Management and Budget (OMB) for review and clearance under the Paperwork Reduction Act of 1995.

DATES: Submit written comments on the collection of information by March 12, 2001.

ADDRESSES: Submit written comments on the collection of information to the Office of Information and Regulatory Affairs, OMB, New Executive Office Bldg., 725 17th St. NW., rm. 10235, Washington, DC 20503, Attn: Wendy Taylor, Desk Officer for FDA.

FOR FURTHER INFORMATION CONTACT: Karen L. Nelson, Office of Information Resources Management (HFA-250), Food and Drug Administration, 5600 Fishers Lane, Rockville, MD 20857, 301-827-1482.

SUPPLEMENTARY INFORMATION: In compliance with 44 U.S.C. 3507, FDA has submitted the following proposed collection of information to OMB for review and clearance.

Registration of Producers of Drugs and Listing of Drugs in Commercial Distribution—21 CFR Part 207 (OMB Control No. 0910-0045)—Extension

Under section 510 of the Federal Food, Drug, and Cosmetic Act (the act) (21 U.S.C. 360), FDA is authorized to establish a system for registration of producers of drugs and for listing of drugs in commercial distribution. To implement section 510 of the act, FDA issued part 207 (21 CFR part 207). Under § 207.20, manufacturers, repackers, and relabelers that engage in the manufacture, preparation, propagation, compounding, or processing of human or veterinary drugs and biological products, including bulk drug substances and bulk drug substances for prescription compounding, and drug premixes as well as finished dosage forms, whether prescription or over-the-counter, are required to register their establishment. In addition, manufacturers, repackers, and relabelers are required to submit a listing of every drug or biological product in commercial distribution. Owners or operators of establishments that distribute, under their own label or trade name, a drug product manufactured by a registered establishment are not required either to register or list. However, distributors may elect to submit drug listing information in lieu of the registered establishment that manufactures the drug product. Foreign drug establishments must also comply with the establishment registration and product listing requirements if they import or offer for import their products into the United States.

Under §§ 207.21 and 207.22, establishments must register with FDA by submitting Form FDA 2656 (Registration of Drug Establishment) within 5 days after beginning the manufacture of drugs or biologicals, or within 5 days after the submission of a drug application or biological license application. In addition, establishments must register annually by returning, within 30 days of receipt from FDA, Form FDA 2656e (Annual Update of Drug Establishment). Changes in individual ownership, corporate or partnership structure location, or drug-handling activity must be submitted as amendments to registration under § 207.26 within 5 days of such changes. Distributors that elect to submit drug listing information must submit Form FDA 2656 to FDA and a copy of the completed form to the registered establishment that manufactured the product to obtain a labeler code. Establishments must, within 5 days of beginning the manufacture of drugs or biologicals, submit to FDA a listing for every drug or biological product in commercial distribution at that time by using Form FDA 2657 (Drug Product Listing). Private label distributors may elect to submit to FDA a listing of every drug product they place in commercial distribution. Registered establishments must submit to FDA drug product listing for those private label distributors who do not elect to submit listing information by using Form FDA 2658 (Registered Establishments' Report of Private Label Distributors).

Under § 207.25, product listing information submitted to FDA must, depending on the type of product being listed, include any new drug application number or biological establishment license number, copies of current labeling and a sampling of advertisements, a quantitative listing of the active ingredient for each drug or biological product not subject to an approved application or license, the National Drug Code number, and any drug imprinting information.

In addition to the product listing information required on Form FDA 2657, FDA may also require, under § 207.31, a copy of all advertisements and a quantitative listing of all ingredients for each listed drug or biological product not subject to an approved application or license; the basis for a determination, by the establishment, that a listed drug or biological product is not subject to marketing or licensing approval requirements; and a list of certain drugs or biological products containing a particular ingredient. FDA may also request, but not require, the submission of a qualitative listing of the inactive ingredients for all listed drugs or biological products, and a quantitative listing of the active ingredients for all listed drugs or biological products subject to an approved application or license.

Under § 207.30, establishments must update their product listing information by using Form FDA 2657 and/or Form FDA 2658 every June and December or, at the discretion of the establishment, when any change occurs. These updates must include the following information: (1) A listing of all drug or biological products introduced for commercial distribution that have not been included in any previously submitted list, (2) all drug or biological products formerly listed for which commercial distribution has been discontinued, (3) all drug or biological products for which a notice of discontinuance was submitted and for which commercial distribution has been resumed, and (4) any material change in any information previously submitted. No update is required if no changes have occurred since the previously submitted list.

FDA estimates the burden of this collection of information as follows:

Table 1.—Estimated Annual Reporting Burden ¹
Reporting | No. of Respondents | No. of Respones per Respondent | Annual Frequency per Response | Total Annual Responses | Hours per Response
(1) Form FDA-2656 Registration of Drug Establishment 21 CFR 207.21, 207.22, 207.25, 207.26, and 207.40 | 15,802 | .34 | 5,438 | .5 | 2,719
(2) Form FDA-2656e Annual Update of Drug Establishment 21 CFR 207.21, 207.22, 207.25, 207.26, and 207.40 | 7,226 | 1 | 7,226 | .5 | 3,613
(3) Form FDA-2657 Drug Product Listing 21 CFR 207.21, 207.22, 207.25, 207.30, 207.31, and 207.40 | 14,381 | 2.80 | 40,270 | .5 | 20,135
(4) Form FDA-2658 Registered Establishments' Report of Private Label Distributors 21 CFR 207.21, 207.22, 207.25, 207.30, and 207.31 | 6,221 | 2.14 | 13,289 | .5 | 6,645
Total Reporting Burden |  |  |  |  | 33,112
¹There are no capital costs or operating and maintenance costs associated with this collection of information.

In the Federal Register of November 2, 2000 (65 FR 65858), the agency requested comments on the proposed collections of information. The agency received one comment on the 60-day notice. The comment recommended that FDA eliminate the requirement to send a representative label and/or carton with each Form FDA 2657 and 2658, and that, instead, the labeling would be available and submitted to FDA upon request.

FDA appreciates the recommendation concerning labeling submissions. However, the comment is beyond the scope of the November 2, 2000, notice. That notice provided an opportunity for public comment on the agency's estimates of the burden resulting from the information collection requirements imposed by part 207. In the Federal Register of November 30, 2000 (65 FR 73798), FDA announced as part of the semiannual regulatory agenda that it intends to publish a proposed rule to revise part 207 to clarify the requirements for registration and listing and to consolidate and reorganize the regulations. The proposal would also require the electronic submission of establishment registration and product listing information. It would be more appropriate to submit the comment to that proposed rule after it publishes in the Federal Register.

Dated: February 5, 2001.
William K. Hubbard,
Senior Associate Commissioner for Policy, Planning, and Legislation.

[FR Doc. 01-3414 Filed 2-8-01; 8:45 am]

BILLING CODE 4160-01-F